DEPARTMENT OF COMMERCE

National Oceanic and Atmospheric Administration

50 CFR Parts 223 and 229

[Docket No. 040903253-4253-01; I.D. 081104H]

RIN 0648-AR39

Taking of Marine Mammals Incidental to Commercial Fishing Operations; Bottlenose Dolphin Take Reduction Plan; Sea Turtle Conservation; Restrictions to Fishing Activities

Correction

In proposed rule document 04-25113 beginning on page 65127 in the issue of Wednesday, November 10, 2004 make the following correction:

On page 65129, the second table should have the heading: “Table 2. Estimated Bycatch for the Mid-Atlantic Beach-Based and Ocean Gillnet Fisheries in 2000 and Southeast U.S. Shark Gillnet Fishery from 1992-2001, and Current PBR Estimates for Each Management Unit Within the Western North Atlantic Coastal Bottlenose Dolphin Stock Applied Semi-Annually. For Management Units South of North Carolina, the PBR Is Applied Annually. Bycatch Estimates for Other Fisheries Impacting the Bottlenose Dolphin Stock Are Unavailable Due to Lack of Observer Effort.”.

[FR Doc. C4-25113 Filed 11-22-04; 8:45 am]

BILLING CODE 1505-01-D